Executive Order 13229 of October 9, 2001

Amendment to Executive Order 13045, Extending the Task Force on Environmental Health Risks and Safety Risks to Children

By the authority vested in me as President by the Constitution and the laws of the United States of America, and in order to extend the Task Force on Environmental Health Risks and Safety Risks to Children, it is hereby ordered that Executive Order 13045 of April 21, 1997, is amended by deleting in section 3-306 of that order “for a period of 4 years from the first meeting” and inserting in lieu thereof “for 6 years from the date of this order”.

B

THE WHITE HOUSE,

October 9, 2001.

[FR Doc. 01-25788

Filed 10-10-01; 8:54 am]

Billing code 3195-01-P